NATIONAL SCIENCE FOUNDATION

Notice of Permit Applications Received Under the Antarctic Conservation Act of 1978

AGENCY: National Science Foundation.

ACTION: Notice of Permit Applications Received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by July 27, 2020. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2021-002

1. Applicant: Megan Cimino, University of California at Santa Cruz, 1156 High Street, Santa Cruz, CA 95064.

Activity for Which Permit is Requested: Enter Antarctic Specially Protected Areas (ASPAs), Take, Harmful Interference, and Import into the USA. The applicant would conduct research as part of the Palmer Station Long-Term Ecological Research Program (Palmer LTER) relating variability in seabird ecology to changes in the physical and biological environment, especially sea ice, snow conditions and the availability of prey. The research would comprise two complimentary components at summer breeding colonies of seabirds and in their pelagic marine foraging environment. The applicant would continue long term-research efforts to assess how annual environmental variability affects seabird diets, breeding success, growth rates, survival and recruitment, behavior, population trends, foraging success and seasonal dispersal. The applicant would engage in take by capture and release in order to (1) census populations and mark breeding territories; (2) capture, mark, band and/or weigh adults, chicks and eggs; (3) obtain diet samples by stomach lavage, by screening contents of terrestrial sediment traps and/or by collecting regurgitated or defecated prey items; (4) place transmitters on individuals; (5) place instrumented artificial eggs under incubating individuals; (6) obtain tissue samples from adults and chicks (e.g., preen gland oil, blood, feathers, egg yolk, toenails); (7) collect addles/infertile eggs no longer being incubated; (8) use GPS/GIS technologies to update existing breeding habitat maps; and (9) salvage dead specimens in good condition for educational purposes. The applicant would use all/some of the above methods on the following species: Adelie Penguin, Chinstrap Penguin, Gentoo Penguin, Brown Skua, South Polar Skua, Southern Giant Petrel, Blue-Eyed Shag, Kelp Gull, Snowy Sheathbill. All seabirds involved in this research would be released unharmed. To conduct the research, the applicant would enter the following Antarctic Specially Protected Areas: ASPA 107, Dion Islands; ASPA 113, Litchfield Island; ASPA 115, Lagotellerie Island; ASPA 117, Avian Island; ASPA 139, Biscoe Point; and ASPA 170, Charcot Island.

Location: Palmer Station area, Marguerite Bay and vicinity, Charcot Island, Rosenthal Islans. ASPA 107, Dion Islands; ASPA 113, Litchfield Island; ASPA 115, Lagotellerie Island; ASPA 117, Avian Island; ASPA 139, Biscoe Point; and ASPA 170, Charcot Island.

Dates of Permitted Activities: October 1, 2020-September 30, 2023.

Erika N. Davis,
Program Specialist, Office of Polar Programs.

[FR Doc. 2020-13780 Filed 6-25-20; 8:45 am]

BILLING CODE 7555-01-P